DEPARTMENT OF THE TREASURY

Office of the Comptroller of the Currency

Central Federal Savings and Loan Association of Rolla, Rolla, Missouri; Approval of Conversion Application; OCC Charter Number 705710

Notice is hereby given that on November 12, 2015, the Office of the Comptroller of the Currency (OCC) approved the application of Central Federal Savings and Loan Association of Rolla, Rolla, Missouri, to convert to the stock form of organization. Copies of the application are available for inspection on the OCC Web site at the FOIA Electronic Reading Room https://foia-pal.occ.gov/palMain.aspx. If you have any questions, please call OCC Licensing Activities at (202) 649-6260.

Dated: November 17, 2015.
By the Office of the Comptroller of the Currency.
Stephen A. Lybarger,
Deputy Comptroller for Licensing.

[FR Doc. 2015-30039 Filed 11-24-15; 8:45 am]

BILLING CODE 4810-33-P